DEPARTMENT OF ENERGY

Federal Energy Regulatory Commission

[Docket No. RP02-75-000]

Chandeleur Pipe Line Company; Notice of Filing

December 5, 2001.

Take notice that on November 30, 2001, Chandeleur Pipe Line Company (Chandeleur) tendered for filing in accordance with section 21.0 of the General Terms and Conditions of its FERC Gas Tariff, Second Revised Volume No. 1, workpapers supporting the continuation, effective January 1, 2002 of its currently effective Fuel and Line Loss Allowance of 0.0%.

Chandeleur asserts that this filing is tendered in order to comply with the annual calculation requirements of its tariff as referenced above.

Chandeleur states that the purpose of this filing is to account for changes in amounts retained for Fuel and Line Loss Allowance pursuant to the provisions of 18 CFR 154.403(d)(3) and in accordance with section 21.0 of the General Terms and Conditions of Chandeleur Pipe Line Company's (Chandeleur) FERC Gas Tariff, Second Revised Volume No. 1.

Any person desiring to be heard or to protest said filing should file a motion to intervene or a protest with the Federal Energy Regulatory Commission, 888 First Street, NE., Washington, DC 20426, in accordance with sections 385.214 or 385.211 of the Commission's rules and regulations. All such motions or protests must be filed on or before December 12, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30566 Filed 12-10-01; 8:45 am]

BILLING CODE 6717-01-P